CHEMICAL SAFETY AND HAZARD INVESTIGATION BOARD

Sunshine Act Meeting

The United States Chemical Safety and Hazard Investigation Board announces that it will convene a Public Meeting beginning at 10:00 a.m. local time on February 27, 2002, at 2175 K Street, Suite 400 Conference Room. Topics will include:

Performance Goal #1: Produce Timely, High Quality Investigation Reports, Recommendations, and Other Technical Reports

1. Initiation of CSB's investigation into the January 16 fatal toxic gas release that occurred at the Georgia-Pacific Corporation's Naheola Mill.

2. Update on CSB investigation into the July 17, 2001 catastrophic failure of a storage tank containing spent sulfuric acid at Motiva Enterprise's Delaware City (Del.) refinery.

3. Update on CSB investigation into a fatal explosion at the BP Amoco Polymers plant in Augusta, Georgia on March 13, 2001, that killed three workers.

4. Results of the CSB investigation into the fatal incident that occurred on February 2, 2001, at the Bethlehem Steel Burns Harbor Mill in Chesterton, Indiana that killed two workers and injured four others.

5. CSB case study of a destructive explosion that occurred at the plant of Concept Sciences Inc., near Allentown, PA, on February 19, 1999.

6. Update on reactive chemical hazard investigation.

Performance Goal #2: Develop Effective Outreach and Partnerships With Stakeholders

7. Creation of CSB's Office of Prevention, Outreach, and Policy (OPOP).

8. CSB/National Institute of Environmental Health Sciences (NIEHS) Spring Workshop.

9. Participation in American Institute for Chemical Engineers' (AIChE) Center for Chemical Process Safety (CCPS) Activities.

Performance Goal #3: Implement a System for Chemical Accident Data Collection and Analysis That Can Be Used to Measure Prevention Effectiveness

10. CSB Data initiatives.

Enabling Goal: Enhance Management of CSB and Establish a Diverse, Highly Skilled, Productive Workforce

11. Chief Operating Officer position filling process.

12. Tentative date for next Board meeting.

The meeting will be open to the public. Please notify CSB if a translator or interpreter is needed, 10 business days prior to the public meeting. For more information, please contact the Chemical Safety and Hazard Investigation Board's Office of Congressional and Public Affairs, (202)-261-7600, or visit our Web site at: www.csb.gov.

Christopher W. Warner,
General Counsel.

[FR Doc. 02-4223 Filed 2-15-02; 3:54 pm]

BILLING CODE 6350-01-P